DEPARTMENT OF ENERGY

Federal Energy Regulatory Commission

Privacy Act of 1974; System of Records

AGENCY: Federal Energy Regulatory Commission, Department of Energy.

ACTION: Notice of a new system of records.

SUMMARY: The Federal Energy Regulatory Commission (FERC) is publishing notice of a new FERC system of records, titled “FERC-65—Agencywide Notification System.” This system of records covers emergency contact information collection of current FERC employees, contractors and interns to be used in the event of an emergency. This notice has 12 routine uses, including two prescribed by the Office of Management and Budget (OMB) Memorandum M-17-12, Preparing for and Responding to a Breach of Personally Identifiable Information, January 3, 2017, that will permit FERC to disclose information as necessary in response to an actual or suspected breach of its own records or to assist another agency in its efforts to respond to a breach.

DATES: Comments on this new system of records must be received no later than 30 days after the date of publication in the Federal Register. If no public comment is received during this period or unless otherwise published in the Federal Register by FERC, the new system of records will become effective a minimum of 30 days after the date of publication in the Federal Register. If FERC receives public comments, FERC shall review the comments to determine whether any changes to the notice are necessary.

ADDRESSES: Comments may be submitted in writing to Federal Energy Regulatory Commission, 888 First Street NE, Washington, DC 20426 or electronically to privacy@ferc.gov. Comments should indicate that they are submitted in response to include reference to “FERC-65—Agencywide Notification System.”

FOR FURTHER INFORMATION CONTACT: Mittal Desai, Chief Information Officer & Senior Agency Official for Privacy, Office of the Executive Director, 888 First Street, NE, Washington, DC 20426, (202) 502-6432.

SUPPLEMENTARY INFORMATION: The Federal Energy Regulatory Commission (FERC) is publishing notice of a new FERC system of records. The new system of records covers records collected to provide emergency notification messages to all FERC personnel, including current employees, contractors, and interns. The notifications may be sent to work/home emails, work/home phones, work/personnel cell phones as well as via other voluntarily provided personal contact information.

SYSTEM NAME AND NUMBER:

Agencywide Notification System (FERC—65)

SECURITY CLASSIFICATION:

Unclassified

SYSTEM LOCATION:

Federal Energy Regulatory Commission, Office of the Chief Security Officer, Continuity of Operations, Mission Integrity Division, 888 First Street NE, Washington, DC 20426.

SYSTEM MANAGER(S):

Federal Energy Regulatory Commission, Manager, Office of the Chief Security Officer, Continuity of Operations, Mission Integrity Division, 888 First Street NE, Washington, DC 20426.

AUTHORITY FOR MAINTENANCE OF THE SYSTEM:

15 U.S.C. 717o; 16 U.S.C. 825h; 42 U.S.C. 7172(a)(2); 44 U.S.C. 3101; 5 U.S.C. 301; and 18 CFR 376.209; Federal Continuity Directive 1 (FCD 1), Federal Executive Branch National Continuity Program and Requirements. January 17, 2017; Federal Continuity Directive 2 (FCD 2), Federal Executive Branch Mission Essential Functions and Candidate Mission Essential Functions Identification and Submission Process, June 13, 2017; National Security and Homeland Security Presidential Directive (National Security Presidential Directive NSPD 51/Homeland Security Presidential Directive) HSPD-20, May 4, 2007.

PURPOSE(S) OF THE SYSTEM:

Records in this system of records are maintained for the following purpose(s): to maintain contact information for FERC personnel, including employees, contractors, and interns to notify them of emergencies, system outages, IT problems, or to send any mass communication that needs to reach all FERC personnel. The system provides for high-speed messages to FERC personnel in response to alerts issued by FERC, the Department of Homeland Security, local officials, and other emergency officials regarding emergencies that may disrupt the operations and/or accessibility of a worksite. The system also enables the FERC emergency responders and others to account for FERC personnel during an emergency.

CATEGORIES OF INDIVIDUALS COVERED BY THE SYSTEM:

Records maintained in this system include, but are not limited to, current FERC employees and individuals authorized to perform or use services provided in FERC facilities including contractors and interns.

CATEGORIES OF RECORDS IN THE SYSTEM:

Records maintained in this system include, but are not limited to, contact information such as full name, email address, home address, telephone number, and personal mobile number. Individuals may voluntarily provide additional contact information through a user portal relating to their nongovernment contact information, such as home telephone number, personal mobile number, and personal email address.

RECORD SOURCE CATEGORIES:

Information in this system is obtained from the individual to whom the records pertain.

ROUTINE USES OF RECORDS MAINTAINED IN THE SYSTEM, INCLUDING CATEGORIES OF USERS AND PURPOSES OF SUCH USES:

In addition to those disclosures generally permitted under 5 U.S.C. 552a(b) of the Privacy Act, information maintained in this system may be disclosed to authorized entities outside FERC for purposes determined to be relevant and necessary as a routine use pursuant to 5 U.S.C. 552a(b)(3) as follows:

1. To appropriate agencies, entities, and persons when (1) FERC suspects or has confirmed that there has been a breach of the system of records; (2) FERC has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

2. To another Federal agency or Federal entity, when FERC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

3. To a congressional office from the record of an individual in response to an inquiry from that congressional office made at the request of that individual.

4. To the Equal Employment Opportunity Commission (EEOC) when requested in connection with investigations of alleged or possible discriminatory practices, examination of Federal affirmative employment programs, or other functions of the Commission as authorized by law or regulation.

5. To the Federal Labor Relations Authority or its General Counsel when requested in connection with investigations of allegations of unfair labor practices or matters before the Federal Service Impasses Panel.

6. To disclose information to another Federal agency, to a court, or a party in litigation before a court or in an administrative proceeding being conducted by a Federal agency, when the Government is a party to the judicial or administrative proceeding. In those cases where the Government is not a party to the proceeding, records may be disclosed if a subpoena has been signed by a judge.

7. To the Department of Justice (DOJ) for its use in providing legal advice to FERC or in representing FERC in a proceeding before a court, adjudicative body, or other administrative body, where the use of such information by the DOJ is deemed by FERC to be relevant and necessary to the advice or proceeding, and such proceeding names as a party in interest: (a) FERC; (b) any employee of FERC in his or her official capacity; (c) any employee of FERC in his or her individual capacity where DOJ has agreed to represent the employee; or (d) the United States, where FERC determines that litigation is likely to affect FERC or any of its components.

8. To non-Federal Personnel, such as contractors, agents, or other authorized individuals performing work on a contract, service, cooperative agreement, job, or other activity on behalf of FERC or Federal Government and who have a need to access the information in the performance of their duties or activities.

9. To the National Archives and Records Administration in records management inspections and its role as Archivist.

10. To the Merit Systems Protection Board or the Board's Office of the Special Counsel, when relevant information is requested in connection with appeals, special studies of the civil service and other merit systems, review of OPM rules and regulations, and investigations of alleged or possible prohibited personnel practices.

11. To appropriate Federal, State, Tribal or local agency responsible for investigating, prosecuting, enforcing, or implementing a statute, rule, regulation, or order, if the information may be relevant to a potential violation of civil or criminal law, rule, regulation, order.

12. To appropriate agencies, entities, and person(s) that are a party to a dispute, when FERC determines that information from this system of records is reasonably necessary for the recipient to assist with the resolution of the dispute; the name, address, telephone number, email address, and affiliation; of the agency, entity, and/or person(s) seeking and/or participating in dispute resolution services, where appropriate.

POLICIES AND PRACTICES FOR STORAGE OF RECORDS:

Records are maintained in electronic format, on a FedRAMP-authorized cloud service provider. Data access is restricted to agency personnel or contractors whose responsibilities require access. In addition, all FERC employees and contractors with authorized access have undergone a thorough background security investigation. Access to electronic records is controlled by User ID and password combination and/or the organizations Single Sign-On and Multi-Factor Authentication solution. Role based access is used to restrict electronic data access and the organization employs the principle of least privilege, allowing only authorized users with access (or processes acting on behalf of users) necessary to accomplish assigned tasks in accordance with organizational missions and business functions. The system is secured with the safeguards required by FedRAMP and NIST SP 800-53.

POLICIES AND PRACTICES FOR RETRIEVAL OF RECORDS:

Records may be retrieved by individual's name or username.

POLICIES AND PRACTICES FOR RETENTION AND DISPOSAL OF RECORDS:

Records are retained and disposed of in accordance with the schedule approved under the National Archives and Records Administration (NARA)'s General Records Schedule 5.3: Continuity and Emergency Planning Records; Disposition Authority: DAA-GRS-2016-0004- 0002. Destroy when superseded or obsolete, or upon separation or transfer of employee, contractor, or intern.

ADMINISTRATIVE, TECHNICAL, AND PHYSICAL SAFEGUARDS:

All FERC employees and contractors with authorized access have undergone a thorough background security investigation. Data access is restricted to agency personnel or contractors whose responsibilities require access. Access to electronic records is controlled by multi-factor authentication combination and network access or security controls. The system is secured with the safeguards required by FedRAMP and NIST SP 800-53. See also Policies and Practices for Storage of Records.

RECORD ACCESS PROCEDURES:

Individuals requesting access to the contents of records must submit a request through the Freedom of Information Act (FOIA) office. The FOIA website is located at https://ferc.gov/freedom-information-act-foia-and-privacy-act. Requests may be submitted by email to foia-ceii@ferc.gov. Written request for access to records should be directed to: Federal Energy Regulatory Commission, Office of External Affair, Director, 888 First Street NE, Washington, DC 20426.

CONTESTING RECORD PROCEDURES:

See Records Access Procedures.

NOTIFICATION PROCEDURES:

Generalized notice is provided by the publication of this notice. For specific notice, see Records Access Procedure, above.

EXEMPTIONS PROMULGATED FOR THE SYSTEM: None.

HISTORY: Not applicable. This is a new SORN.

Dated: August 2, 2023.
Kimberly D. Bose,
Secretary.

[FR Doc. 2023-16973 Filed 8-8-23; 8:45 am]

BILLING CODE 6717-01-P